DEPARTMENT OF ENERGY

Bonneville Power Administration; Maiden Wind Farm Project

AGENCY: Bonneville Power Administration (BPA), Department of Energy (DOE).

ACTION: Notice of intent to prepare an Environmental Impact Statement (EIS).

SUMMARY: BPA intends to prepare an EIS on the proposed Maiden Wind Farm (Project), located northeast of the town of Sunnyside in Benton and Yakima Counties, Washington. Washington Winds, Incorporated (Washington Winds) proposes to construct and operate the 150- to 494-megawatt (MW) wind generation facility. BPA proposes to purchase the electrical output from the Project and to provide transmission services. The EIS will be site-specific as to the potential environmental impacts of the construction and operation of the wind project itself, as well as all related transmission facilities. In addition, the EIS will take a broad programmatic look at the balance of the Project study area. Benton and Yakima Counties, Washington, will be cooperating agencies because of their need to comply with the State Environmental Protection Act.

DATES: An EIS scoping meeting will be held at the location below on June 26, 2001. Written comments are due to the address below no later than July 13, 2001.

ADDRESSES: Send comment letters and requests to be placed on the Project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

The scoping meeting will be held on June 26, 2001, from 4:00 p.m. to 7:00 p.m., at the Prosser Senior Citizen Center, 1231 Dudley Avenue, in Prosser, Washington. At this informal meeting, Washington Winds will provide information, including maps, about the Project. Written information will be available, and BPA staff will answer questions and accept oral and written comments on the proposed scope of the Draft EIS.

FOR FURTHER INFORMATION CONTACT: Sarah T. Branum, Bonneville Power Administration—KEC-4, P.O. Box 3621, Portland, Oregon 97208-3621, phone number 503-230-5115, fax number 503-230-5699, email stbranum@bpa.gov.

SUPPLEMENTARY INFORMATION: Background. Currently, there is a shortage of electricity in the Northwest; this Project would help to alleviate this shortage. In addition, there is an increased demand in the electric utility industry to diversify energy portfolios and include energy produced by new renewable resources. The Northwest Power Planning Council's Fourth Conservation and Electric Power Plan recommends that Northwest utilities offer green power purchase opportunities as a way to help the region integrate renewable resources into the power system in the future. BPA has committed to increasing its supply of conservation and renewable resources to help meet load.

Purpose and Need. BPA is facing an era of growing electrical loads, increasing constraints on the existing energy resource base, and heightened customer demand for renewable resources. BPA needs to acquire additional renewable resources that will contribute to the diversification of its energy portfolio and be available promptly to help remedy BPA's power supply issues. The purposes BPA would fulfill by addressing this need include:

• Protecting BPA and its utility customers against risk;

• Assuring consistency with BPA's responsibility under the Pacific Northwest Electric Power Planning and Conservation Act to encourage the development of renewable energy resources;

• Meeting customer demand for energy from renewable energy resources, thereby assuring consistency with BPA's Business Plan EIS (DOE/EIS-0183, June 1995) and Business Plan Record of Decision (ROD);

• Assuring consistency with the resource acquisition strategy of BPA's Resource Programs EIS (DOE/EIS-0162, February 1993) and ROD; and

• Meeting the objective in the January 2000 Strategic Plan of BPA's Power Business Line to acquire at least 150 average MW of new renewable resources by the end of fiscal year 2006 in order to meet customer demand for new renewable resources.

Proposed Action. BPA proposes to execute one or more power purchase and transmission services agreements to acquire the full electrical output of Washington Winds' proposed Maiden Wind Farm. This 150-to 494-MW wind generation facility would be located primarily in Benton County, Washington, 15 miles north of Prosser, and, to a lesser extent, in Yakima County, Washington, 10 miles northeast of Sunnyside. The proposed site is located on the southwestern slopes of the Rattlesnake Hills, which includes: portions of Sections 7, 8, 9, 10 14, 15, 16, 17, 18, 22, 23, 24, 25, 26, 35, 36, T11N, R24E, Benton County; portions of Sections 28, 30, 31, 33, T11N, R25E, Benton County; and portions of Sections 3, 10, 11, 12, 13, T11N, R23E, Yakima County; State of Washington, Department of Natural Resources public lands include portions of Sections 16 and 36, T11N, R24, Benton County; road access involves portions of Sections 14, 19, 20, 29, 30, T11N, R24E, Benton County and portions of Sections 23, 24, 25, 26, 35, 36, T11N, R23E, Yakima County. None of the Project would be located on land owned by the United States. Land uses within the Project site consist of non-irrigated agriculture—primarily cattle grazing and dryland wheat farming.

Approximately 167 to 549 wind turbines would be arranged in several “strings,” with approximately 250 to 450 feet between turbines in each string, depending upon the turbine size and topographical features. Washington Winds is considering using turbines ranging from 900-kilowatt (kW) to 2,000-kW output each. The proposed turbine type would be an upwind, fixed-speed turbine (i.e., the rotor always faces upwind and turns at a constant speed), mounted on tubular steel towers installed on a reinforced concrete foundation. The typical operating range of wind speeds for these turbine types is approximately 9 to 65 miles per hour (mph). At speeds greater than approximately 65 mph, the wind turbines automatically cease operating and remain stationary until the wind speeds become slower. The height of the turbines will range from approximately 246 feet to 380 feet, depending upon the turbine size. Foundations would be either caisson or pad style, ranging from approximately 15 to 50 feet in width (depending upon turbine size) and extending 20 to 50 feet underground (depending upon turbine size) and/or anchored into bedrock. Agricultural activities can continue to take place directly adjacent to the turbine pads.

Power from all turbines in the Project would be collected by an underground and overhead cable system and then fed to one or two proposed substations to be located on the Project site. The fenced substation site(s) would occupy approximately two to four acres each. From the substation site(s), power from the Project would be interconnected to BPA's existing Hanford-John Day 500-kilovolts (kV), Midway-Big Eddy 230-kV, or the Midway-Grandview 115-kV transmission lines that transect the Project site. Other facilities required as part of the Project are small pad-mounted transformers located at the base of each wind turbine tower, access roads, and two or three operation and maintenance buildings. The Project is scheduled to begin construction as early as March 2002, followed by commercial operation as early as November 2002, and would operate year-round for at least 20 years.

Process to Date. An application for a conditional use permit for Benton County has been submitted, plus a conditional use permit application for Yakima County is in progress. Surveys for sensitive plant and wildlife species (including birds) were initiated in the spring of 2001. Scoping will help identify what additional studies will be required.

Alternatives Proposed for Consideration. The alternatives include the proposed action (executing a power purchase agreement with Washington Winds for 150 to 400 MW of electrical energy from the proposed Maiden Wind Farm and authorizing transmission over BPA power lines), and the No Action alternative.

Public Participation and Identification of Environmental Issues. For other wind projects, noise, visual, and cultural resources effects, and effects on sensitive plant and animal species including migratory birds, have been identified as potential environmental issues. BPA has established a 30-day scoping period during which affected tribes, landowners, concerned citizens, special interest groups, local governments, and any other interested parties are invited to comment on the scope of the EIS. Scoping will help BPA identify the range of environmental issues that should be addressed in the EIS. When completed, the Draft EIS will be circulated for review and comment, and BPA will hold at least one public comment meeting for the Draft EIS. BPA will consider and respond in the Final EIS to comments received on the Draft EIS. The Final EIS is expected to be published in early 2002. BPA's subsequent decision will be documented in a Record of Decision. The EIS will satisfy the requirements of the National Environmental Policy Act.

Issued in Portland, Oregon, on June 5, 2001.
Steven G. Hickok,
Acting Administrator and Chief Executive Officer.

[FR Doc. 01-14734 Filed 6-11-01; 8:45 am]

BILLING CODE 6450-01-U